OFFICE OF PERSONNEL MANAGEMENT

Cancellation of an Optional Form by the Office of Personnel Management

AGENCY: U.S. Office of Personnel Management.

ACTION: Notice.

SUMMARY: The U.S. Office of Personnel Management (OPM) is cancelling the Optional Application for Federal Employment. The information contained in the OF 612 is now incorporated in the online Resume Builder on the USAJOBS® Web site. The need to maintain the OF 612 as an alternative means of applying for Federal positions no longer exists as job seekers now have the ability to either build or upload resumes. This action is being taken to facilitate a more seamless employment application process for both Federal agencies and job seekers, consistent with the goals of Federal hiring reform.

DATES: Effective June 13, 2011.

FOR FURTHER INFORMATION CONTACT: U.S. Office of Personnel Management, Employment Services, USAJOBS, 1900 E. Street, NW., Washington, DC 20415, Attention: USAJOBS, or via electronic mail to patricia.stevens@opm.gov.

U.S. Office of Personnel Management.
John Berry,
Director.

[FR Doc. 2011-13704 Filed 6-1-11; 8:45 am]

BILLING CODE 6325-38-P